FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

Type of Review: Renewal of a currently approved collection.

Title: Recordkeeping and Confirmation Requirements for Securities Transactions.

OMB Number: 3064-0028.

Annual Burden:

Estimated annual number of respondents: 4,732.

Estimated time per response: 27.91 hours.

Estimated total annual burden hours: 132,070 hours.

Expiration Date of OMB Clearance: April 30, 2003.

SUPPLEMENTARY INFORMATION: The information collection requirements are contained in 12 CFR 344. The regulation's purpose is to ensure that purchasers of securities in transactions effected by insured state nonmember banks are provided with adequate information concerning the transactions. The regulation is also designed to ensure that insured state nonmember banks maintain adequate records and controls with respect to the securities transactions they effect.

OMB Reviewer: Joseph F. Lackey, Jr. (202) 395-4741, Office of Management and Budget, Office of Information and Regulatory Affairs, Washington, DC 20503.

FDIC Contact: Tamara R. Manly, (202) 898-7453, Legal Division, Room MB-3109, Federal Deposit Insurance Corporation, 550 17th Street NW., Washington, DC 20429.

Comments: Comments on these collections of information are welcome and should be submitted on or before April 21, 2003 to both the OMB reviewer and the FDIC contact listed above.

ADDRESSES: Information about this submission, including copies of the proposed collections of information, may be obtained by calling or writing the FDIC contact listed above.

Dated: March 18, 2003.
Federal Deposit Insurance Corporation.
Robert E. Feldman,
Executive Secretary.

[FR Doc. 03-6938 Filed 3-21-03; 8:45 am]

BILLING CODE 6714-01-P